DEPARTMENT OF LABOR

Employment and Training Administration

[TA-W-81,575]

Wipro Limited, Wipro Technologies, Alliance Managers Including Remote Workers and Workers in Oakbrook Terrace, IL, Mountain View, CA, Atlanta, GA, Bellevue, WA, Addison, TX, and Boston, MA Who Report to East Brunswick, NJ; Notice of Revised Determination on Reconsideration

On August 23, 2012, the Department of Labor issued a Notice of Affirmative Determination Regarding Application for Reconsideration applicable to workers and former workers of Wipro Limited, Wipro Technologies, Alliance Managers, including remote workers and workers in Oakbrook Terrace, Illinois, Mountain View, California, Atlanta, Georgia, Bellevue, Washington, Addison, Texas, and Boston Massachusetts, who report to East Brunswick, New Jersey (Wipro Limited, Wipro Technologies, Alliance Managers). The Department's Notice was published in the Federal Register on September 6, 2012 (77 FR 54927). The suffixes used in the initial determination to identify the workers have been removed; however, the subject worker group remains the same.

The subject workers are engaged in activities related to the supply of the supply of sales of alliance related services or products through sales employees of the subject firm and are not separately identifiable function or service supplied. The subject worker group does not include any leased workers.

Section 222(a)(1) has been met because a significant number or proportion of the workers in Wipro Limited, Wipro Technologies, Alliance Managers have become totally or partially separated, or are threatened with such separation.

Section 222(a)(2)(B) has been met because the subject firm has shifted a portion of the supply of services like or directly competitive with the supply of sales of alliance related services or products through sales employees of the subject firm, which contributed importantly to worker group separations at Wipro Limited, Wipro Technologies, Alliance Managers.

Conclusion

After careful review of the additional facts obtained during the reconsideration investigation, I determine that workers of Wipro Limited, Wipro Technologies, Alliance Managers, who were engaged in employment related to the supply of sales of alliance related services or products through sales employees of the subject firm, meet the worker group certification criteria under Section 222(a) of the Act, 19 U.S.C. 2272(a). In accordance with Section 223 of the Act, 19 U.S.C. 2273, I make the following certification:

All workers of Wipro Limited, Wipro Technologies, Alliance Managers, including remote workers and workers in Oakbrook Terrace, Illinois, Mountain View, California, Atlanta, Georgia, Bellevue, Washington, Addison, Texas, and Boston Massachusetts, who report to East Brunswick, New Jersey, who became totally or partially separated from employment on or after May 6, 2011, through two years from the date of certification, and all workers in the group threatened with total or partial separation from employment on the date of certification through two years from the date of certification, are eligible to apply for adjustment assistance under Chapter 2 of Title II of the Trade Act of 1974, as amended.

Signed at Washington, DC, this 11th day of February, 2013.
Del Min Amy Chen,
Certifying Officer, Office of Trade Adjustment Assistance.

[FR Doc. 2013-04024 Filed 2-21-13; 8:45 am]

BILLING CODE 4510-FN-P